DEPARTMENT OF TRANSPORTATION

Surface Transportation Board

[STB Finance Docket No. 35022]

New Hampshire Central Railroad, Inc.—Lease and Operation Exemption—Line of the New Hampshire Department of Transportation

New Hampshire Central Railroad, Inc. (NHCR), a Class III rail carrier, has filed a verified notice of exemption under 49 CFR 1150.41 to acquire by lease and to operate approximately 8.47 miles of rail line owned by the State of New Hampshire Department of Transportation on the Mountain Division corridor, between Engineering Station 5060+25, Valuation Section 17 NH Map 53, in Whitefield, NH, and Station 5503, Valuation Section 18 VT Map 3, in Lunenburg, VT.

NHCR certifies that its projected revenues as a result of this transaction will not result in the creation of a Class II or a Class I rail carrier and will not exceed $5 million.

The earliest this transaction may be consummated is June 1, 2007, the effective date of the exemption (30 days after the exemption was filed).

If the notice contains false or misleading information, the exemption is void ab initio. Petitions to revoke the exemption under 49 U.S.C. 10502(d) may be filed at any time. The filing of a petition to revoke will not automatically stay the transaction. Petitions for stay must be filed no later than May 25, 2007 (at least 7 days before the exemption becomes effective).

An original and 10 copies of all pleadings, referring to STB Finance Docket No. 35022, must be filed with the Surface Transportation Board, 395 E Street, SW., Washington, DC 20423-0001. Also, a copy of each pleading must be served on Jack E. Dodd, P.O. Box 28, Saint Albans, VT 05478.

Board decisions and notices are available on our Web site at http://www.stb.dot.gov.

Decided: May 8, 2007.
By the Board, David M. Konschnik, Director, Office of Proceedings.
Vernon A. Williams,
Secretary.

[FR Doc. E7-9203 Filed 5-14-07; 8:45 am]

BILLING CODE 4915-01-P